DEPARTMENT OF TRANSPORTATION

Federal Railroad Administration

[Docket Number FRA-2002-12837]

Notice of Application for Approval of Discontinuance or Modification of a Railroad Signal System or Relief from Requirements

Pursuant to Title 49 Code of Federal Regulations (CFR) part 235 and 49 U.S.C. 20502(a), the following railroads have petitioned the Federal Railroad Administration (FRA) seeking approval for the discontinuance or modification of the signal system or relief from the requirements of 49 CFR part 236 as detailed below.

Applicant

Union Pacific Railroad Company, Mr. Phil M. Abaray, Chief Engineer—Signals, 1416 Dodge Street, Room 1000, Omaha, Nebraska 68179-1000.

Union Pacific Railroad Company seeks approval of the proposed discontinuance and removal of the automatic block signal system on the single main track, between milepost 84.1 and milepost 86.0, on the Peoria Subdivision, at Sommer, Illinois, consisting of the following:

1. Removal of the fixed approach signals at milepost 83.24 and 86.7;

2. Removal of automatic signal 01, at milepost 84.1 and automatic signal 02, at milepost 86.0;

3. Removal of the two electric switch locks at milepost 84.2 and milepost 85.9; and

4. Removal of the four switch circuit controllers and associated track circuits.

The reasons given for the proposed changes are that the electric locks and signals are not necessary for present day operation. The application area is track warrant control territory and all trains must obtain authority from the UP train dispatcher before entering the main line onto the Peoria Subdivision. The affected signals only display a lunar or red aspect, and the speed in the area is limited to 30 mph.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PL-401 (Plaza Level), 400 Seventh Street, SW., Washington, DC 20590-0001. Communications received within 45 days of the date of this notice will be considered by the FRA before final action is taken. Comments received after that date will be considered as far as practicable. All written communications concerning these proceedings are available for examination during regular business hours (9 a.m.-5 p.m.) at DOT Central Docket Management Facility, Room PL-401 (Plaza Level), 400 Seventh Street, SW., Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC on September 12, 2002.
Grady C. Cothen, Jr.,
Deputy Associate Administrator for Safety Standards and Program Development.

[FR Doc. 02-24723 Filed 9-27-02; 8:45 am]

BILLING CODE 4910-06-P